DEPARTMENT OF HEALTH AND HUMAN SERVICES

Food and Drug Administration

21 CFR Part 1

[Docket No. FDA-2013-N-0013]

Sanitary Transportation of Human and Animal Food; Public Meetings on Proposed Rule

AGENCY: Food and Drug Administration, HHS.

ACTION: Notification of public meetings.

SUMMARY: The Food and Drug Administration (FDA or we) is announcing three public meetings to discuss the proposed rule that would establish requirements for shippers, carriers by motor vehicle and rail vehicle, and receivers engaged in the transportation of food, including food for animals, to use sanitary transportation practices to help ensure the safety of the food they transport. The proposed rule is part of our larger effort to focus on prevention of food safety problems throughout the food chain and is part of our implementation of the Sanitary Food Transportation Act of 2005 (2005 SFTA) and the FDA Food Safety Modernization Act (FSMA). The purpose of the public meetings is to inform the public of the provisions of the proposed rule and the rulemaking process (including how to submit comments, data, and other information to the rulemaking docket) as well as solicit oral stakeholder and public comments on the proposed rule and to respond to questions about the rule.

DATES: See section II, “How to Participate in the Public Meetings,” in the SUPPLEMENTARY INFORMATION section for dates and times of the public meetings, closing dates for advance registration, and information on deadlines for submitting either electronic or written comments to FDA's Division of Dockets Management.

ADDRESSES: See section II, “How to Participate in the Public Meetings,” in the SUPPLEMENTARY INFORMATION section.

FOR FURTHER INFORMATION CONTACT: For questions about registering for the meeting, to register by phone, or to submit a notice of participation by mail, fax, or email, contact: Nick Cane, Nakamoto Group, Inc., 11820 Parklawn Dr., Suite 240, Rockville, MD 20852, 240-357-1176, FAX: 301-468-6536, email: nick.cane@nakamotogroup.com. For general questions about the meeting; to request an opportunity to make an oral presentation at the public meeting; to submit the full text, comprehensive outline, or summary of an oral presentation; or for special accommodations due to a disability, contact: Juanita Yates, Center for Food Safety and Applied Nutrition (HFS-009), Food and Drug Administration, 5100 Paint Branch Pkwy., College Park, MD 20740, 240-402-1731, email: juanita.yates@fda.hhs.gov.

SUPPLEMENTARY INFORMATION:

I. Background

FSMA (Pub. L. 111-353), was signed into law by President Obama on January 4, 2011, to better protect public health by helping to ensure the safety and security of the food supply. FSMA amends the Federal Food, Drug, and Cosmetic Act (the FD&C Act) to establish the foundation of a modernized, prevention-based food safety system. FSMA was the first major legislative reform of FDA's food safety authorities in more than 70 years, even though FDA has increased the focus of its food safety efforts on prevention over the past several years. Among other things, FSMA requires FDA to implement the 2005 SFTA. The 2005 SFTA requires FDA to issue regulations requiring shippers, carriers by motor vehicle or rail vehicle, receivers, and other persons engaged in the transportation of food to use sanitary transportation practices to help ensure that food is not transported under conditions that may render the food adulterated. Isolated incidents of insanitary transportation practices for human and animal food and outbreaks and illnesses caused by contamination of these foods during transport there have resulted in concerns over the past decades about the potential that food can become contaminated during transportation. The goal of the proposed rule is to help ensure that transportation practices do not create food safety risks.

FDA is announcing two public meetings entitled “The Food Safety Modernization Act Public Meeting on Focused Mitigation Strategies to Protect Food Against Intentional Adulteration and Sanitary Transportation of Human and Animal Food” and a third public meeting entitled “The Food Safety Modernization Act Public Meeting on Sanitary Transportation of Human and Animal Food” so that the food industry, consumers, foreign governments, and other stakeholders can evaluate and comment on the proposals. As stated, the first two meetings will cover both the focused mitigation strategies to protect food against international adulteration and sanitary transportation of human and animal food proposed rules and will be held in Chicago, IL, and Anaheim, CA; the third meeting in College Park, MD, will cover only the sanitary transport proposed rule during the proposed rule comment period. All three public meetings are intended to facilitate and support the proposed rules' evaluation and commenting process.

II. How To Participate in the Public Meetings

FDA is holding the public meetings on the sanitary transport proposed rule to inform the public about the rulemaking process, including how to submit comments, data, and other information to the rulemaking docket; to respond to questions about the proposed rules; and to provide an opportunity for interested persons to make oral presentations. Due to limited space and time, FDA encourages all persons who wish to attend the meetings to register in advance. There is no fee to register for the public meetings, and registration will be on a first-come, first-served basis. Early registration is recommended because seating is limited. Onsite registration will be accepted, as space permits, after all preregistered attendees are seated.

Those requesting an opportunity to make an oral presentation during the time allotted for public comment at the meetings are asked to submit a request and to provide the specific topic or issue to be addressed. Due to the anticipated high level of interest in presenting public comment and the limited time available, FDA is allocating 3 minutes to each speaker to make an oral presentation. Speakers will be limited to making oral remarks; there will not be an opportunity to display materials such as slide shows, videos, or other media during the meeting. If time permits, individuals or organizations that did not register in advance may be granted the opportunity to make an oral presentation. FDA would like to maximize the number of individuals who make a presentation at the meeting and will do our best to accommodate all persons who wish to make a presentation or express their opinions at the meeting.

FDA encourages persons and groups who have similar interests to consolidate their information for presentation by a single representative. After reviewing the presentation requests, FDA will notify each participant before the meeting of the approximate time their presentation is scheduled to begin, and remind them of the presentation format (i.e., 3-minute oral presentation without visual media).

While oral presentations from specific individuals and organizations will be necessarily limited due to time constraints during the public meetings, stakeholders may submit electronic or written comments discussing any issues of concern to the administrative record (the docket) for the rulemaking. All relevant data and documentation should be submitted with the comments to Docket No. FDA-2013-N-0013.

Table 1 of this document provides information on participation in the public meetings:

Table 1—Information on Participation in the Meetings and on Submitting Comments to the Rulemaking Dockets
| Date | Electronic address | Address | Other information
Chicago, IL, Public Meeting, Transport Session | February 27, 2014 | http://www.fda.gov/Food/GuidanceRegulation/FSMA/ucm247568.htm | Hilton Chicago, 720 South Michigan Ave., Chicago, IL 60605 | Onsite registration from 8 a.m. to 8:30 a.m.
Chicago, IL, Advance Registration | Until February 18, 2014 | http://www.fda.gov/Food/GuidanceRegulation/FSMA/ucm247568.htm | We encourage you to use electronic registration if possible.¹ | There is no registration fee for the public meetings. Early registration is recommended because seating is limited.
Chicago, IL, Request to Make a Public Comment | February 10, 2014 | http://www.fda.gov/Food/GuidanceRegulation/FSMA/ucm247568.htm ² |  | Requests made on the day of the meeting to make an oral presentation will be granted as time permits. Information on requests to make an oral presentation may be posted without change to http://www.regulations.gov, including any personal information provided.
Chicago, IL, Request Special Accommodations Due to a Disability | February 10, 2014 | Juanita Yates, email: Juanita.yates@fda.hhs.gov | See FOR FURTHER INFORMATION CONTACT |
Chicago, IL, Closing Date for Electronic or Written Comments | May 31, 2014 | Docket No. FDA-2013-N-0013 |  |
Anaheim, CA, Public Meeting, Transport Session | March 13, 2014 | http://www.fda.gov/Food/GuidanceRegulation/FSMA/ucm247568.htm | Sheraton Park Hotel, 1855 South Harbor Blvd., Anaheim, CA 92802 | Onsite registration from 8 a.m. to 8:30 a.m.
Anaheim, CA, Advance Registration | Until March 4, 2014 | http://www.fda.gov/Food/GuidanceRegulation/FSMA/ucm247568.htm | We encourage you to use electronic registration if possible.¹ | There is no registration fee for the public meetings. Early registration is recommended because seating is limited.
Anaheim, CA, Request to make a Public Comment | February 18, 2014 | http://www.fda.gov/Food/GuidanceRegulation/FSMA/ucm247568.htm ² |  | Requests made on the day of the meeting to make an oral presentation will be granted as time permits. Information on requests to make an oral presentation may be posted without change to http://www.regulations.gov, including any personal information provided.
Anaheim, CA, Request Special Accommodations Due to a Disability | February 18, 2014 | Juanita Yates, email: Juanita.yates@fda.hhs.gov | See FOR FURTHER INFORMATION CONTACT |
Anaheim, CA, Closing Date for Electronic or Written Comments | May 31, 2014 | Docket No. FDA-2013-N-0013 |  |
College Park, MD, Public Meeting | March 20, 2014 | http://www.fda.gov/Food/GuidanceRegulation/FSMA/ucm247568.htm | Wiley Building, 5100 Paint Branch Pkwy., College Park, MD 20740 | Onsite registration from 8 a.m. to 8:30 a.m.
College Park, MD, Advance Registration | Until March 13, 2014 | http://www.fda.gov/Food/GuidanceRegulation/FSMA/ucm247568.htm | We encourage you to use electronic registration if possible.¹ | There is no registration fee for the public meetings. Early registration is recommended because seating is limited.
College Park, MD, Request to Make a Public Comment | February 28, 2014 | http://www.fda.gov/Food/GuidanceRegulation/FSMA/ucm247568.htm |  | Requests made on the day of the meeting to make an oral presentation will be granted as time permits. Information on requests to make an oral presentation may be posted without change to http://www.regulations.gov, including any personal information provided.
Closing Date of Docket | May 31, 2014 | Docket No. FDA-2013-N-0013 |  |
College Park, MD, Request Special Accommodations Due to a Disability | February 28, 2014 | Juanita Yates, email: Juanita.yates@fda.hhs.gov | See FOR FURTHER INFORMATION CONTACT |
Closing Date for Electronic or Written Comments to be Included in Docket | May 31, 2014 | Docket No. FDA-2013-N-0013 |  |
¹ You may also register via email, mail, or fax. Please include your name, title, firm name, address, and phone and FAX numbers in your registration information and send to: Nick Cane, Nakamoto Group, Inc., 11820 Parklawn Dr., Suite 240, Rockville, MD 20852, 240-357-1176, FAX: 301-468-6536, email: nick.cane@nakamotogroup.com. Onsite registration will also be available.
² You may also request to make an oral presentation at the public meetings via email. Please include your name, title, firm name, address, and phone and fax numbers as well as the full text, comprehensive outline, or summary of your oral presentation and send to: Juanita Yates, Center for Food Safety and Applied Nutrition, Food and Drug Administration, 5100 Paint Branch Pkwy., College Park, MD 20740, 240-402-1731, email: juanita.yates@fda.hhs.gov.

III. Comments, Transcripts, and Recorded Video

Information and data submitted voluntarily to FDA during the public meetings will become part of the administrative record for the rulemaking and will be accessible to the public at http://www.regulations.gov. The transcript of the proceedings from the public meetings will become part of the administrative record for the rulemaking. Please be advised that as soon as a transcript is available, it will be accessible at http://www.regulations.gov and at FDA's FSMA Web site at: http://www.fda.gov/Food/GuidanceRegulation/FSMA/default.htm. It may also be viewed at the Division of Dockets Management (HFA-305), Food and Drug Administration, 5630 Fishers Lane, Rm. 1061, Rockville, MD 20852. A transcript will also be available in either hardcopy or on CD-ROM, after submission of a Freedom of Information request. Written requests are to be sent to the Division of Freedom of Information (ELEM-1029), 12420 Parklawn Dr., Element Bldg., Rockville, MD 20857. Additionally, FDA will be video recording and live Web casting all of the public meetings. Once the recorded video is available, it will be accessible at FDA's FSMA Web site at http://www.fda.gov/Food/GuidanceRegulation/FSMA/default.htm.

Dated: February 11, 2014.
Leslie Kux,
Assistant Commissioner for Policy.

[FR Doc. 2014-03277 Filed 2-13-14; 8:45 am]

BILLING CODE 4160-01-P